DEPARTMENT OF COMMERCE

National Oceanic and Atmospheric Administration

50 CFR Part 660

[Docket No. 210505-0101; RTID 0648-XB274]

Fisheries Off West Coast States; Modification of the West Coast Commercial Salmon Fisheries; Inseason Actions #22, #23, and #24

AGENCY: National Marine Fisheries Service (NMFS), National Oceanic and Atmospheric Administration (NOAA), Commerce.

ACTION: Inseason modification of 2021 management measures.

SUMMARY: NMFS announces three inseason actions in the 2021 ocean salmon fisheries. These inseason actions modified the commercial and recreational salmon fisheries in the area from the U.S./Canada border to the Oregon/California border.

DATES: The effective dates for the inseason actions are set out in this document under the heading Inseason Actions.

FOR FURTHER INFORMATION CONTACT: Shannon Penna at 562-676-2148, Email: Shannon.penna@noaa.gov.

SUPPLEMENTARY INFORMATION:

Background

The 2021 annual management measures for ocean salmon fisheries (86 FR 26425, May 14, 2021), announced management measures for the commercial and recreational fisheries in the area from the U.S./Canada border to the U.S./Mexico border, effective from 0001 hours Pacific Daylight Time (PDT), May 16, 2021, until the effective date of the 2022 management measures, as published in the Federal Register. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Chairman of the Pacific Fishery Management Council (Council) and the appropriate State Directors (50 CFR 660.409(b)—Flexible inseason management provisions).

Management of the salmon fisheries is generally divided into two geographic areas: north of Cape Falcon (NOF) (U.S./Canada border to Cape Falcon, OR) and south of Cape Falcon (SOF) (Cape Falcon, OR, to the U.S./Mexico border). The actions described in this document affected the NOF and SOF commercial ocean salmon fisheries and an NOF recreational salmon fishery, as set out under the heading Inseason Actions.

Consultation on these inseason actions occurred on July 20, 2021, and July 22, 2021. Representatives from NMFS, Washington Department of Fish and Wildlife (WDFW), Oregon Department of Fish and Wildlife (WDFW), California Department of Fish and Wildlife (CDFW), and Council staff participated in the consultations.

These inseason actions were announced on NMFS' telephone hotline and U.S. Coast Guard radio broadcast on the dates of the consultations (50 CFR 660.411(a)(2)).

Inseason Actions

Inseason Action #22

Description of the action: Inseason action #22 modified the NOF recreational salmon fishery from the U.S./Canada border to Cape Alava, WA (Neah Bay subarea), from a two salmon per day bag limit to a two salmon per day bag limit, no more than one of which may be a Chinook salmon, beginning at 12:01 a.m. on July 24, 2021.

Effective date: Inseason action #22 took effect on July 24, 2021, and remains in effect until superseded.

Reason and authorization for the action: This action was necessary after WDFW closed Chinook salmon retention in adjacent state waters, Washington Marine Area 5 (Sekiu), due to higher than expected catch rates. The Sekiu closure created a concern that effort would shift to the Neah Bay subarea, potentially requiring an early closure of Chinook salmon retention in that subarea.

The NMFS West Coast Region Regional Administrator (RA) considered the landings of Chinook salmon in the NOF recreational salmon fishery, fishery effort occurring to date as well as anticipated under the proposal, quotas and guidelines set preseason, the recreational Chinook salmon guideline remaining, and recent management changes in adjacent state waters. The RA determined that inseason action #22 was necessary to preserve the available recreational Chinook salmon guideline in the Neah Bay subarea in order to meet management goals set preseason, including the Pacific Coast Salmon Fishery management Plan's (FMP) goal of extending the recreational fishery through Labor Day. The modification of recreational bag limits is authorized by 50 CFR 660.409(b)(1)(iii).

Consultation date and participants: Consultation on inseason action #22 occurred on July 20, 2021. Representatives from NMFS, WDFW, ODFW, and the Council participated in this consultation.

Inseason Action #23

Description of the action: Inseason action #23 adjusted the July-September 2021 quota for the commercial salmon troll fishery north of Cape Falcon. The quota increased from 15,375 Chinook salmon to 16,931 Chinook salmon through an impact-neutral rollover of unutilized quota from the May-June commercial salmon troll fishery in the same area.

Effective dates: Inseason action #23 took effect on Tuesday July 20, 2021, and remains in effect until superseded.

Reason and authorization for the action: Authority for this impact-neutral rollover of unutilized quota is specified in the 2021 ocean salmon regulations (86 FR 26425, May 14, 2021). The NOF May-June commercial salmon fishery had a quota of 15,375 Chinook salmon. Of that quota, 9,818 Chinook salmon were landed, leaving 5,557 of the Chinook salmon quota unutilized. The Council's Salmon Technical Team (STT) determined the impact-neutral rollover would be constrained for fishery impacts on Lower Columbia River tule Chinook salmon, and would limit the rollover to 28 percent of the 5,557 unutilized Chinook salmon quota. Therefore, the STT calculated that the impact-neutral rollover would add 1,556 Chinook salmon to the July-September quota for an adjusted quota of 16,931 Chinook salmon.

The NMFS West Coast Region RA considered the landings of Chinook salmon in the NOF commercial salmon fishery, fishery effort occurring to date, quotas set preseason, and the STT's calculations for the impact-neutral quota rollover. The RA determined that inseason action #23 was necessary to provide access to available Chinook salmon quota and meet management goals set preseason. The modification of quotas is authorized by 50 CFR 660.409(b)(1)(i).

Consultation date and participants: Consultation on inseason action #23 occurred on July 20, 2021. Representatives from NMFS, WDFW, ODFW, and the Council participated in this consultation.

Inseason Action #24

Description of the action: Inseason action #24 modified the landing limit in the commercial ocean salmon fishery in the area from Humbug Mountain, OR, to the Oregon/California border (Oregon Klamath Management Zone (KMZ)) from 10 Chinook salmon per vessel, per landing week (Thursday-Wednesday) to 20 Chinook salmon per vessel per landing week.

Effective dates: Inseason action #24 superseded inseason action #21 (86 FR 40182, July 28, 2021) on July 22, 2021, and remains in effect until superseded.

Reason and authorization for the action: The preseason quota for July for the commercial ocean salmon fishery in the Oregon KMZ was 200 Chinook salmon (86 FR 26425, May 14, 2021). The quota was adjusted to 216 Chinook salmon through an impact-neutral rollover of unutilized quota in the June fishery in the same area (inseason action #20, 86 FR 40182, July 28, 2021). Fishing effort and landings in July in the Oregon KMZ commercial ocean salmon fishery were much lower than anticipated and, with 10 days remaining in the fishery, only 77 Chinook salmon had been landed (36 percent of the July quota).

The NMFS West Coast Region RA considered Chinook salmon landings in the fishery and fishery effort to date and determined that inseason action #24 was necessary to provide greater access to the remaining quota. Attaining the quota is consistent with management goals set preseason. Modification of landing and retention limits is authorized by 50 CFR 660.409(b)(1)(ii).

Consultation date and participants: Consultation on inseason action #24 occurred on July 22, 2021. Representatives from NMFS, ODFW, and CDFW participated in this consultation. Council staff were unavailable to participate in the consultation, but were notified of the action immediately.

All other restrictions and regulations remain in effect as announced for the 2021 ocean salmon fisheries (86 FR 26425, May 14, 2021), as modified by previous inseason action (86 FR 34161, June 29, 2021; 86 FR 37249, July 15, 2021; 86 FR 40182, July 28, 2021).

The NMFS West Coast Region RA determined that these inseason actions were warranted based on the best available information on Pacific salmon abundance forecasts, landings to date, and anticipated fishery effort. The states manage the fisheries in state waters adjacent to the areas of the U.S. exclusive economic zone [3-200 nautical miles (5.6-370.4 kilometers) off the coasts of the states of Washington, Oregon, and California] consistent with these Federal actions. As provided by the inseason notice procedures at 50 CFR 660.411, actual notice of the described regulatory action was given, prior to the time the action was effective, by telephone hotline numbers 206-526-6667 and 800-662-9825, and by U.S. Coast Guard Notice to Mariners broadcasts on Channel 16 VHF-FM and 2182 kHz.

Classification

NMFS issues these actions pursuant to section 305(d) of the Magnuson-Stevens Fishery Conservation and Management Act. These actions are authorized by 50 CFR 660.409, which was issued pursuant to section 304(b), and is exempt from review under Executive Order 12866.

Pursuant to 5 U.S.C. 553(b)(3)(B), there is good cause to waive prior notice and an opportunity for public comment on these actions, as notice and comment would be impracticable and contrary to the public interest. Prior notice and opportunity for public comment on these actions was impracticable because NMFS had insufficient time to provide for prior notice, and the opportunity for public comment between the time Chinook salmon abundance, catch, and effort information was developed, and fisheries impacts were calculated, and the time the fishery modifications to be implemented in order to ensure that fisheries are managed based on the best scientific information available. As previously noted, actual notice of the regulatory action was provided to fishers through telephone hotline and radio notification. This action complies with the requirements of the annual management measures for ocean salmon fisheries (86 FR 26425, May 14, 2021), the FMP, and regulations implementing the FMP under 50 CFR 660.409 and 660.411.

There is good cause under 5 U.S.C. 553(d)(3) to waive the 30-day delay in effective date, as a delay in effectiveness of these actions would allow fishing at levels inconsistent with the goals of the FMP and the current management measures.

Authority: 16 U.S.C. 1801 et seq.

Dated: August 5, 2021.
Jennifer M. Wallace,
Acting Director, Office of Sustainable Fisheries, National Marine Fisheries Service.

[FR Doc. 2021-17008 Filed 8-10-21; 8:45 am]

BILLING CODE 3510-22-P